DEPARTMENT OF AGRICULTURE

Natural Resources Conservation Service

Environmental Quality Incentive Program for Geographic Priority Areas, New Mexico

AGENCY: Natural Resources Conservation Service, Agriculture.

ACTION: Notice of a finding of no significant impact.

SUMMARY: Pursuant to Section 102(2)(c) of the National Environmental Policy Act of 1969; the Council on Environmental Quality Regulations (40 CFR part 1500); and the Natural Resources Conservation Service Regulations (7 CFR part 650); the U.S. Department of Agriculture, Natural Resources Conservation Service, in New Mexico, gives notice that an environmental impact statement is not being prepared for:

Jicarilla Apache Nation (Rio Arriba and Sandoval Counties)

Pueblo of Jemez Tribal Trust Lands (Sandoval County)

Rio Brazos Watershed (Rio Arriba County)

Rincon-Mesilla Valley Irrigated Cropland (Dona Ana and Sierra Counties)

FOR FURTHER INFORMATION CONTACT: Rosendo Trevino III, State Conservationist; Natural Resources Conservation Service; 6200 Jefferson, NE; Albuquerque, NM 87109-3734; Telephone (505)761-4400.

Copies of these environmental assessments are available from NRCS in Albuquerque, NM and are also available electronically on the NRCS New Mexico Internet Homepage at: http://www.nm.nrcs.usda.gov/techserv/ea.htm.

SUPPLEMENTARY INFORMATION: The environmental assessments of these federally assisted action indicates that the projects will not cause significant local, regional, or national effects on the human environment. As a result of these findings, Rosendo Trevino III, State Conservationist, has determined that the preparation and review of an environmental impact statement are not needed for these projects. Basic data developed during the environmental assessment is on file and may be reviewed by contacting Rosendo Trevino III.

No administrative action on implementation of the proposed action will be taken until 30 days after the date of this publication in the Federal Register.

Dated: January 31, 2002.
Rosendo Trevino III,
State Conservationist.

[FR Doc. 02-3286 Filed 2-11-02; 8:45 am]

BILLING CODE 3410-16-P